DEPARTMENT OF THE INTERIOR

Bureau of Land Management

[LLORN00300.L63320000.FU0000.LXSS026H0000.17XL1116AF.HAG 17-0042]

Notice of Intent To Establish Recreation Fees on Public Lands in Clackamas County, OR

AGENCY: Bureau of Land Management, Interior.

ACTION: Notice of intent.

SUMMARY: Pursuant to the Federal Lands Recreation Enhancement Act (REA), the Bureau of Land Management (BLM), Northwest Oregon District (formerly Salem District), intends to establish standard (day-use) and expanded (overnight/specialized use) amenity fees at Aquila Vista, Cedar Grove, Marmot, Sandy Ridge, and Three Bears Recreation Sites in Clackamas County, Oregon.

DATES: Comments on the proposed fees must be received or postmarked by June 17, 2019 and include a legible full name and address.

ADDRESSES: The business plans and information concerning the proposed fees may be reviewed at the Northwest Oregon District Office, 1717 Fabry Rd. SE, Salem, Oregon 97306, and online at https://www.blm.gov/programs/recreation/permits-and-fees/business-plans.

Written comments may be mailed or delivered to the address listed previously or emailed to: blm_or_no_rec_publiccomments@blm.gov with “Attn: Dan Davis, Notice of Intent to Establish Recreation Fees” referenced in the subject line.

FOR FURTHER INFORMATION CONTACT: Dan Davis, Outdoor Recreation Planner, phone: 503-375-5646, email: blm_or_no_rec_publiccomments@blm.gov. Contact Dan Davis to have your name added to the Northwest Oregon District's mailing list. Persons who use a telecommunications device for the deaf (TDD) may call the Federal Relay Service (FRS) at 1-800-877-8339 to contact Mr. Davis during normal business hours. The FRS is available 24 hours a day, 7 days a week, to leave a message or question. You will receive a reply during normal business hours.

SUPPLEMENTARY INFORMATION: The REA directs the Secretary of the Interior to publish a 6-month advance notice in the Federal Register whenever new recreation fee areas are established. A RAC must review a new fee prior to a final decision to implement fee collection.

The BLM is proposing to establish recreation fees for standard and expanded amenities at the Aquila Vista, Cedar Grove, and Three Bears Recreation Sites. These sites are located in the Molalla River-Table Rock Special Recreation Management Area, approximately 12 miles southeast of the city of Molalla, Oregon. The Molalla River-Table Rock Recreation Area Management Plan (2011) identified these recreation sites to be developed in order to address high levels of recreational use and minimize impacts to the riparian area outside of these recreation sites. The BLM determined that developing these sites could help by concentrate visitation and allow for potential fee revenue to offset management expenses. The Molalla River Corridor Business Plan used a market analysis to determine standard and expanded amenity fees at these recreation sites.

The BLM is also proposing to establish recreation fees for standard amenities at the Marmot and Sandy Ridge Recreation Sites. These sites are included within the larger Sandy River Basin Integrated Management Plan, which guides their development. The market analysis in the Sandy River Basin Business Plan determined standard amenity fees at these recreation sites. The amenities furnished at both Sandy Ridge and Marmot Recreation Sites provide significant opportunities for outdoor recreation.

The table shows proposed fees and associated site amenities:

Fee Proposals Within the Bureau of Land Management Northwest Oregon District's Salem Office Northwest Oregon RAC
Recreation site or area name | Proposed fees per day/night | Site amenities
Molalla River Corridor: Aquila Vista, Cedar Grove and Three Bears Campgrounds
Individual Tent Campsite Double Tent Campsite Extra Camping Vehicle Day-Use Vehicles (in campgrounds, up to 9 people) | $15 $30 $5 $5 | Walk-in tent campsites with fire ring and picnic table, site access road, parking, vault toilets, trash receptacle, camp host site, potable water, information kiosk, access to Molalla River and non-motorized multi-use trail system.
Group Campsite | $50 (up to 20 people) $2.50 for each additional person. | Private group campsite with fire ring, picnic table and access road, large parking area, gazebo shelter with picnic tables, vault toilet, trash receptacle.
Sandy River Basin: Marmot Recreation Site and Sandy Ridge Day-Use Trailhead
Day-Use Vehicles (up to 9 people) Day-Use Van (10 to 20 passengers) Day-Use Bus (20 plus passengers) | $5 $10. $20. | Site access road and parking, picnic tables, vault toilet, trash receptacle, host site, picnic table, interpretive kiosk, access to non-motorized trails.

The BLM will publish the business plans online at https://www.blm.gov/programs/recreation/permits-and-fees/business-plans. The plans outline the operational goals of the area, the purpose of the fee program, and guide expenditures. The plans also provide the basis for the fees by outlining a comparative market analysis of public recreation sites.

These recreation sites would become new fee sites with the previously mentioned fees, pending the review and recommendation for approval by the Northwest Oregon RAC. The BLM would begin charging fees no sooner than 6 months after publishing this notice in the Federal Register and after the close of public comments. Future adjustments in the fee amount would be made in accordance with the plan, including a public comment period, and through consultation with the Northwest Oregon RAC. Fee amounts will be posted onsite and online once established.

The BLM has found that recreation fee proposals are of a procedural nature and do not constitute a major Federal action, and are therefore excluded from environmental review under Section 102(2)(C) of the National Environmental Policy Act of 1969 (NEPA), 42 U.S.C. 4332(C), pursuant to 43 CFR 46.210(i). In addition, the fee proposals do not present any of the 12 extraordinary circumstances related to categorical exclusions listed at 43 CFR 46.215.

The BLM Northwest Oregon District welcomes public comment on this proposal. Comments received after the close of the comment period may not be considered or included in the administrative record for the proposed fees. Effective no sooner than 6 months after publication of this notice, and contingent upon final review and recommendation for approval by the Northwest Oregon Resource Advisory Council (RAC), the BLM will initiate fee collection at the above-mentioned recreation sites, unless the BLM publishes a Federal Register Notice to the contrary.

Before including your address, phone number, email address, or other personal identifying information in your comment, you should be aware that your entire comment—including your personal identifying information—may be made publicly available at any time. While you can ask us in your comment to withhold your personal identifying information from public review, we cannot guarantee that we will be able to do so.

(Authority: 16 U.S.C. 6803(b) and 43 CFR 2932)

David O. Howell,
Northwest Oregon District Manager.

[FR Doc. 2019-10150 Filed 5-15-19; 8:45 am]

BILLING CODE 4310-33-P